DEPARTMENT OF COMMERCE

National Oceanic and Atmospheric Administration

[RTID 0648-XV200]

Solicitation of Nominations for Membership on the Space Weather Advisory Group (SWAG)

AGENCY: National Oceanic and Atmospheric Administration (NOAA), Commerce.

ACTION: Notice of solicitation of nominations for membership.

SUMMARY: Pursuant to the Promoting Research and Observations of Space Weather to Improve the Forecasting of Tomorrow (PROSWIFT) Act of and the Federal Advisory Committee Act (FACA), the Space Weather Interagency Working Group (interagency working group), requests nominations for membership on the SWAG.

DATES: Nominations should be sent to the web address specified below and must be received on or before June 30, 2024.

ADDRESSES: Nominations and applications should be submitted electronically to the Designated Federal Officer (DFO), SWAG, NOAA, Amy Macpherson via email: amy.macpherson@noaa.gov.

FOR FURTHER INFORMATION CONTACT: Ms. Amy Macpherson, DFO, SWAG, and Acting National Space Weather Program Manager, National Weather Service, NOAA, at amy.macpherson@noaa.gov and William Murtagh, Program Coordinator, Space Weather Prediction Center, NOAA, at william.murtagh@noaa.gov.

SUPPLEMENTARY INFORMATION:

I. Background and Authority

Establishment of the SWAG implements a statutory requirement of the PROSWIFT Act 2020 (Pub. L. 116-181), 51 U.S.C. 60601 et seq. The SWAG is governed by the FACA, as amended, 5 U.S.C. App., which sets forth standards for the formation and use of advisory committees. The mission of the SWAG is to receive advice from the academic community, the commercial space weather sector, and nongovernmental space weather end users to advise the Space Weather Interagency Working Group (interagency working group) established by the National Science and Technology Council pursuant to 51 U.S.C. 60601(c). Duties include advising the interagency working group on the following: facilitating advances in the space weather enterprise of the United States; improving the ability of the United States to prepare for, mitigate, respond to, and recover from space weather phenomena; enabling the coordination and facilitation of research to operations and operations to research, as described in section 60604(d) of title 51, United States Code; and developing and implementing the integrated strategy under 51 U.S.C. 60601(c), including subsequent updates and reevaluations. The SWAG shall also conduct a recurring, comprehensive survey of the needs of users of space weather products to identify the space weather research, observations, forecasting, prediction, and modeling advances required to improve space weather products, as required by 51 U.S.C. 60601(d)(3).

II. Structure

The SWAG shall consist of not more than 15 members, including a chair, of whom: 5 members shall be representatives of the academic community; 5 members shall be representatives of the commercial space weather sector; and 5 members shall be nongovernmental representatives of the space weather end-user community. Members will be chosen to provide an appropriate range of views that represent the span of the space weather community and end-user sectors. Members shall serve in a representative capacity; they are, therefore, not Special Government Employees. As such, members are not subject to the ethics rules applicable to Government employees, except that they must not misuse Government resources or their affiliation with the Committee for personal purposes. All members of the SWAG will be appointed by the interagency working group for a 3-year term, with one member appointed by NOAA as the Chair. Members may not serve on the SWAG for more than two consecutive terms. A member of the SWAG may not serve as the Chair of the SWAG for more than two terms, regardless of whether the terms are consecutive. The SWAG will meet approximately three times each year, which may be conducted in person or by teleconference, webinar, or other means. Additional meetings may be called as appropriate, with approval by the Administrator of NOAA. Members are reimbursed for actual and reasonable travel in accordance with Federal per diem expenses incurred in performing such duties but will not be reimbursed for their time. As a Federal Advisory Committee, the SWAG's membership is required to be balanced in terms of viewpoints represented and the functions to be performed as well as appointments shall be made without discrimination on the basis of age, race, ethnicity, gender, sexual orientation, disability, or cultural, religious, or socioeconomic status.

III. Nominations

Interested persons may nominate themselves or third parties. An application is required to be considered for SWAG membership, regardless of whether a person is nominated by a third party or self-nominated. The application package must include: (1) the nominee's full name, title, institutional affiliation, and contact information; (2) identification of the nominee's area(s) of industry perspective—academia, commercial service provider, or end-user; (3) a short description of his/her qualifications relative to the kinds of advice being solicited by NOAA in this Notice; and (4) a current resume (maximum length four pages). All nomination information should be provided in a single, complete package, and should be sent to the Designated Federal Officer of the SWAG at the electronic address provided above.

Dated: May 23, 2024.
Michael Farrar,
Director, National Centers for Environmental Prediction, National Weather Service, National Oceanic and Atmospheric Administration.

[FR Doc. 2024-11827 Filed 5-29-24; 8:45 am]

BILLING CODE 3510-KE-P